DEPARTMENT OF COMMERCE

National Oceanic and Atmospheric Administration

[I.D. 020507E]

Endangered Species; File No. 1447

AGENCY: National Marine Fisheries Service (NMFS), National Oceanic and Atmospheric Administration (NOAA), Commerce.

ACTION: Notice; issuance of permit.

SUMMARY: Notice is hereby given that the South Carolina Department of Natural Resources 217 Fort Johnson Road, Charleston, South Carolina 29412 [Responsible Party/Principal Investigator: Mark Collins, PhD], has been issued a permit to conduct scientific research on shortnose sturgeon (Acipenser brevirostrum).

ADDRESSES: The permit and related documents are available for review upon written request or by appointment in the following offices:

Permits, Conservation and Education Division, Office of Protected Resources, NMFS, 1315 East-West Highway, Room 13705, Silver Spring, MD 20910; phone (301) 713-2289; fax (301) 427-2521; and

Protected Resources Division, Southeast Region, NMFS, 263 13th Avenue South, St. Petersburg, FL 33701; phone (727) 824-5312; fax (727) 824-5309.

FOR FURTHER INFORMATION CONTACT: Malcolm Mohead or Carrie Hubard, (301)713-2289.

SUPPLEMENTARY INFORMATION: On September 09, 2003, notice was published in the Federal Register (68 FR 53140) that a request for a scientific research permit to take shortnose sturgeon had been submitted by the South Carolina Department of Natural Resources. The requested permit has been issued under the authority of the Endangered Species Act of 1973, as amended (ESA; 16 U.S.C. 1531 et seq.) and the regulations governing the taking, importing, and exporting of endangered and threatened species (50 CFR parts 222-226).

The South Carolina Department of Natural Resources [Dr. Mark Collins, Principal Investigator], is authorized to sample and track shortnose sturgeon in South Carolina coastal waters. Annually, up to 100 fish will be taken via gill nets, measured, weighed, PIT and Dart tagged, anaesthetized, and gastric lavaged. A subset of 50 fish will be fitted with radio/sonic transmitters and tracked during the study. Additionally, the researcher will deploy buffer pads as substrate to collect up to 100 sturgeon eggs annually to verify spawning periodicity. Two fish are authorized annually as unintentional mortality. The permit will terminate on February 28, 2012.Issuance of this permit, as required by the ESA, was based on a finding that such permit (1) was applied for in good faith, (2) will not operate to the disadvantage of the endangered species which is the subject of this permit, and (3) is consistent with the purposes and policies set forth in section 2 of the ESA.

Dated: February 6, 2007.
P. Michael Payne,
Chief, Permits, Conservation and Education Division, Office of Protected Resources, National Marine Fisheries Service.

[FR Doc. E7-2199 Filed 2-8-07; 8:45 am]

BILLING CODE 3510-22-S